DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for public transportation projects in the following areas: Jacksonville, Florida; Denver, Colorado; Staten Island, New York; Gig Harbor, Washington; Wasilla, Alaska. The purpose of this notice is to announce publicly the environmental decisions by FTA on the subject projects and to activate the limitation on any claims that may challenge these final environmental actions.

DATES: By this notice, FTA is advising the public of final agency actions subject to Title 23, United States Code (U.S.C.), section 139(l). A claim seeking judicial review of the FTA actions announced herein for the listed public transportation projects will be barred unless the claim is filed on or before December 8, 2008.

FOR FURTHER INFORMATION CONTACT: Elizabeth Zelasko, Environmental Protection Specialist, Office of Planning and Environment, 202-366-0244, or Christopher Van Wyk, Attorney-Advisor, Office of Chief Counsel, 202-366-1733. FTA is located at 1200 New Jersey Avenue, SE., Washington, DC 20590. Office hours are from 9 a.m. to 5:30 p.m., e.t., Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA), and in other documents in the FTA administrative record for the project. The final agency environmental decision documents—Records of Decision (ROD) or Findings of No Significant Impact (FONSI)—for the listed projects are available online at http://www.fta.dot.gov/planning/environment/planning_environment_documents.html, or may be obtained by contacting the FTA Regional Office for the metropolitan area where the project is located. Contact information for the FTA Regional Offices may be found at http://www.fta.dot.gov.

This notice applies to all FTA decisions on the listed projects as of the issuance date of this notice and all laws under which such actions were taken, including, but not limited to, the National Environmental Policy Act (NEPA) [42 U.S.C. 4321-4375], Section 4(f) of the Department of Transportation Act of 1966 [49 U.S.C. 303], Section 106 of the National Historic Preservation Act [16 U.S.C. 470f], and the Clean Air Act [42 U.S.C. 7401-7671q].

The projects and actions that are the subject of this notice are:

1. Project name and location: Jacksonville Bus Rapid Transit System, Jacksonville, Florida. Project sponsor: Jacksonville Transportation Authority (JTA). Project description: The FTA and the JTA have completed a Tier 1 Programmatic Final Environmental Impact Statement (PFEIS) of the Jacksonville Bus Rapid Transit (BRT) system. The Jacksonville BRT program consists of BRT lines and stations in four corridors, construction of BRT ancillary facilities, and the acquisition of BRT vehicles. The BRT system corridors would extend from downtown Jacksonville north to the intersection of Lem Turner Road and Norwood Avenue; southeast toward the intersection of Baymeadows Road and I-95; east to Regency Square Mall; and southwest to 103rd Street. On the basis of the Tier 1 Programmatic EIS, FTA and JTA identified 14 proposed station locations along the four corridors for proposed property acquisition. Five other proposed station locations would require further examination of potential impacts on communities and historic properties in Tier 2 NEPA documents. When JTA seeks FTA funding for any of the BRT lines covered by the Tier 1 PFEIS, FTA and JTA would perform a Tier 2 NEPA review of the proposed project to identify potential environmental impacts and develop appropriate mitigation measures in more detail. Final Agency Actions: ROD signed on April 2, 2008. Supporting documentation: JTA Bus Rapid Transit Tier 1 Programmatic Final Environmental Impact Statement issued in January 2008.

2. Project name and location: West Corridor Light Rail Project, Denver and Jefferson Counties, Colorado. Project sponsor: Regional Transportation District. Project description: The project consists of the design and construction of 12.1 miles of light rail transit (LRT) from the existing LRT at the Auraria West Station to the Jefferson Government Center. The project was documented in a previous EIS and ROD that was issued in April 2004. Since April 2004, the Regional Transportation District made a number of changes to the project including changes to the alignment, LRT frequency, the number of tracks west of the Denver Federal Center, station location and layout, bridges, and pedestrian facilities. The final agency actions announced in this notice apply only to these changes. Final agency actions: FONSI signed on November 16, 2007; Section 106 Memorandum of Agreement Amendment 1 signed September 2007; Project-level Air Conformity determination; Section 4(f) de minimis impact finding. Supporting documentation: Revised Environmental Assessment of changes to the West Corridor Light Rail Project issued in November 2007.

3. Project name and location: Charleston Bus Annex, Staten Island, New York. Project sponsors: Metropolitan Transit Authority (MTA) and New York City Transit (NYCT). Project description: The Charleston Bus Annex project consists of construction of a two-story bus maintenance and administration building and two outdoor parking areas on a 10.8-acre site under jurisdiction of New York City's Department of Citywide Administrative Services. As part of the project, NYCT will also construct a new stormwater sewer, install a deep groundwater well to ensure adequate bus washing water supply during drought conditions, relocate maintenance and storage of 220 buses from existing bus depots, modify several bus routes to originate and terminate in front of the Charleston Bus Annex site, implement traffic improvement measures, and construct two new bus stops along Arthur Kill Road. Final agency actions: FONSI signed on November 30, 2007; Section 106 Finding of No Adverse Effect. Supporting documentation: Environmental Assessment for the Charleston Bus Annex issued in September 2007.

4. Project name and location: Peninsula Park and Ride, Gig Harbor, Washington. Project sponsor: Pierce Transit. Project description: The Peninsula Park and Ride project is located on a 7-acre site on the west side of State Route 16 at Hunt Street between 1,500 and 2,500 feet south of Wollochet Drive NW/Pioneer Way. The main components of the project include a 600-space park and ride lot; a pedestrian/bicycle overpass approximately 200 feet long over State Route 16; facilities for limited local bus service; landscaping; sidewalks; and stormwater facilities. Final agency actions: FONSI signed on April 6, 2006; Section 4(f) de minimis impact finding; Section 106 Finding of No Adverse Effect; Project-level Air Conformity determination. Supporting documentation: Environmental Assessment for the Peninsula Park and Ride issued in September 2005 and Errata issued in March 2006.

5. Project name and location: South Wasilla Track Realignment, Wasilla, Alaska. Project sponsor: Alaska Railroad Corporation (ARRC). Project description: ARRC will realign approximately 4 miles of mainline track from milepost 154 to milepost 158 in the southeast portion of Wasilla in the Matanuska-Susitna Borough of south-central Alaska. The project includes a new 225-foot bridge over Wasilla Creek, a new embankment west of the creek crossing with 2 underpasses through the embankment to allow vehicular access, acquisition of a minimum of 200 foot right-of-way, construction of two grade-separated crossings, elimination of 5 mainline at-grade crossings, and the realignment of Old Matanuska Road. Portions of the existing track will be left in place for use as a temporary siding; the remaining track will be removed. Final agency actions: FONSI signed on February 1, 2006; Section 106 Determination of No Adverse Effect; Section 4(f) de minimis impact finding. Supporting documentation: South Wasilla Track Realignment Environmental Assessment issued in August 2005.

Issued on: June 2, 2008.
Susan Borinsky,
Associate Administrator for Planning and Environment, Washington, DC.

[FR Doc. E8-12814 Filed 6-6-08; 8:45 am]

BILLING CODE 4910-57-P